DEPARTMENT OF COMMERCE

International Trade Administration

[A-570-928, A-791-821, A-552-803]

Uncovered Innerspring Units From the People's Republic of China, South Africa, and Socialist Republic of Vietnam: Final Results of the Expedited Sunset Reviews of the Antidumping Duty Orders

AGENCY: Enforcement and Compliance, International Trade Administration, Department of Commerce.

SUMMARY: The Department of Commerce (Commerce) finds that revocation of the antidumping duty orders on uncovered innerspring units from the People's Republic of China (China), South Africa, and Socialist Republic of Vietnam (Vietnam) would be likely to lead to continuation or recurrence of dumping as indicated in the “Final Results of Sunset Reviews” section of this notice.

DATES: Applicable July 10, 2019.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On March 1, 2019, Commerce published the initiation of the second five-year (sunset) reviews of the antidumping duty orders on uncovered innerspring units from China, South Africa, and Vietnam, pursuant to section 751(c) of the Tariff Act of 1930 (the Act), as amended.¹ Commerce received notices of intent to participate in these sunset reviews from Leggett & Platt, Incorporated (the domestic interested party), within the 15-day period specified in 19 CFR 351.218(d)(1)(i). The domestic interested party claimed interested party status under section 771(9)(C) of the Act as a producer of the domestic like product.

¹ See Initiation of Five-Year (Sunset) Review, 84 FR 7021 (March 1, 2019) (Notice of Initiation).

Commerce received adequate substantive responses to the Notice of Initiation from the domestic interested party within the 30-day period specified in 19 CFR 351.218(d)(3)(i). Commerce received no substantive response from any respondent interested parties. In accordance with section 751(c)(3)(B) of the Act and 19 CFR 351.218(e)(1)(ii)(C)(2), Commerce conducted expedited (120-day) sunset reviews of the antidumping duty orders on uncovered innerspring units from China, South Africa, and Vietnam.²

² See Uncovered Innerspring Units from the People's Republic of China: Notice of Antidumping Duty Order, 74 FR 7661 (February 19, 2009); Antidumping Duty Order: Uncovered Innerspring Units from South Africa, 73 FR 75390 (December 11, 2008); Antidumping Duty Order: Uncovered Innerspring Units from the Socialist Republic of Vietnam, 73 FR 75391 (December 11, 2008).

Scope of the Orders

The products subject to these orders are uncovered innerspring units composed of a series of individual metal springs joined together in sizes corresponding to the sizes of adult mattresses (e.g., twin, twin long, full, full long, queen, California king, and king) and units used in smaller constructions, such as crib and youth mattresses. The complete scope language of these orders is listed in the Issues and Decision Memorandum,³ which is hereby adopted by this notice.

³ See Issues and Decision Memorandum for the Final Results of Expedited Second Sunset Reviews of the Antidumping Duty Orders on Uncovered Innerspring Units from the People's Republic of China, South Africa, and the Socialist Republic of Vietnam, dated concurrently with this notice (Issues and Decision Memorandum).

The products subject to the orders are currently classifiable under subheading 9404.29.9010 and have also been classified under subheadings 9404.10.0000, 7326.20.0070, 7320.20.5010, or 7320.90.5010 of the Harmonized Tariff Schedule of the United States (HTSUS). On January 11, 2011, Commerce included the 9404.29.9005 and 9404.29.9011 HTSUS classification number to the customs case reference file, pursuant to a request by U.S. Customs and Border Protection (CBP). On January 7, 2013, Commerce included the 7326.20.0071 HTSUS classification number to the customs case reference file, pursuant to a request by CBP. The HTSUS subheadings are provided for convenience and customs purposes only; the written description of the scope of these orders is dispositive.

Analysis of Comments Received

All issues raised in these reviews are addressed in the Issues and Decision Memorandum, including the likelihood of continuation or recurrence of dumping in the event of revocation and the magnitude of dumping margins likely to prevail if the orders were revoked. Parties can find a complete discussion of all issues raised in these reviews and the corresponding recommendations in this public memorandum, which is on file electronically via Enforcement and Compliance's Antidumping and Countervailing Duty Centralized Electronic Services System (ACCESS). ACCESS is available to registered users at http://access.trade.gov and is available to all parties in the Central Records Unit in Room B8024 of the main Department of Commerce building. In addition, a complete version of the Issues and Decision Memorandum can be accessed directly on the internet at https://enforcement.trade.gov/frn/index.html. A list of the issues discussed in the decision memorandum is attached as the Appendix to this notice. The signed and electronic versions of the Issues and Decision Memorandum are identical in content.

Final Results of Sunset Reviews

Commerce determines that revocation of the antidumping duty orders on uncovered innerspring units from China, South Africa, and Vietnam would be likely to lead to continuation or recurrence of dumping at the following weighted-average percentage margins: China, up to 234.51 percent; South Africa, up to 121.39 percent; and Vietnam, up to 116.31 percent.

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing the final results and notice in accordance with sections 751(c), 752(c), and 777(i)(1) of the Act and 19 CFR 351.221(c)(5)(ii).

Dated: July 1, 2019.
Jeffrey I. Kessler,
Assistant Secretary for Enforcement and Compliance.

Appendix

List of Topics Discussed in the Final Decision Memorandum

I. Summary

II. Background

III. History of the Orders

IV. Scope of the Orders

V. Discussion of the Issues

VI. Final Results of Reviews

VII. Recommendation

[FR Doc. 2019-14687 Filed 7-9-19; 8:45 am]

BILLING CODE 3510-DS-P